DEPARTMENT OF THE INTERIOR

Bureau of Land Management

[NV-040-07-5110-CF05 1990-EX-1990; N82888]

Notice of Intent To Prepare an Environmental Impact Statement for an Expansion of Mining Operations at Barrick Gold Corporation's Bald Mountain and Money Basin Mines, NV

AGENCY: Bureau of Land Management, Interior.

ACTION: Notice of Intent.

SUMMARY: In accordance with section 102(2)(c) of the National Environmental Policy Act of 1969 and 43 CFR part 3809, the Bureau of Land Management (BLM) Ely Field Office, Nevada intends to prepare an Environmental Impact Statement (EIS) for a proposed consolidation and expansion of the existing Plans of Operation for Barrick Gold Corporation's Bald Mountain Mine and Mooney Basin Mine located in White Pine County, Nevada. The two existing mines would be combined into one new expanded operation which would be called the North Operations Area. The EIS will analyze anticipated impacts of the expansion under this new consolidated Plan of Operation, and will incorporate analysis from a previous EIS and environmental assessments associate with the existing disturbance.

DATES: Publication of this notice initiates the public scoping process. Scoping meetings will be held in Ely, Elko, and Eureka, Nevada. All public meetings will be announced through local news media, newsletters or flyers, and will be posted on the BLM Web site, http://www.nv.blm.gov/ely/2007_releases.htm at least 15 days prior to each event.

The minutes and list of attendees for each meeting will be available to the public and open for 30 days after the meeting to any participants who wish to clarify the views they expressed. Comments and resource information should be submitted to the BLM within 30 days of publication of this notice in the Federal Register.

ADDRESSES: You may submit comments by any of the following methods:

• E-mail: lynn_bjorklund@nv.glm.gov.

• Fax: 775-189-1910.

• Mail: Bureau of Land Management, Ely Field Office, Attention: Lynn Bjorklund, HC33 Box 33500, Ely, Nevada, 89301.

Documents pertinent to this proposal may be examined at the Ely Field Office.

FOR FURTHER INFORMATION CONTACT: For further information and/or to have your name added to our mailing list, contact Lynn Bjorklund, Ely Field Office, at 775 289-1893 or by e-mail to lynn_bjorklund@nv.blm.gov.

SUPPLEMENTARY INFORMATION: Barrick Gold Corporation has submitted a proposal to expand and consolidate their existing Bald Mountain and Mooney Basin Mines, which are located approximately 65 air miles northwest of the town of Ely, Nevada. The project (consolidating the existing Bald Mountain Mine N-68193 and Mooney Basin Mine N-46-94-010P into one unified operation called the North Operations Area) would consist of extending existing open pits, expanding existing rock disposal areas and heap leach facilities, construction of a truck shop, and continuing the operation, reclamation, and closure of the existing Bald Mountain Mine and Mooney Basin Mine operations (to include mine offices, truck shops/warehouse, haul roads, ore stockpiles, access roads, diversion ditches, power transmission lines, water wells and pipelines, process solution transmission pipelines and a landfill). This proposed expansion is entirely on unpatented mining claims on BLM-administered public land. Project access would continue to be via existing public roads. The projected life of the existing mine operation would increase approximately 10 years under this proposed project.

Under the proposed action, there would be an additional disturbance of 3,808 acres. The BLM previously authorized Barrick Gold Corporation to disturb 3,418 acres within the Bald Mountain Mine Plan boundary and 742 acres within the Mooney Basin Plan boundary (for a total of approximately 4,160 acres) associated with pits, rock disposal areas, heap leaching, roads, growth media stockpiles, exploration, and underground mining activities. The Proposed North Operations Area would include the 4,160 acres of previously permitted disturbance and 3,808 acres of new disturbance, for a final disturbance footprint of 7,968 acres. The North Operations Area EIS would incorporate existing analysis that includes several environmental assessments and the 1995 Bald Mountain Mine Expansion EIS.

Combining the Mooney Basin Mine and the Bald Mountain Mine into one project area would result in the new North Operations Area project boundary expanding to include an additional 3,738 acres of public land. The original boundaries of the two mines encompassed 12,737 acres of public land. The proposed project boundary for the North Operations Area would encompass 16,475 acres. These project boundaries define an area of potential operations although not all of the acreage within these boundaries would be disturbed.

The purpose of the public scoping process is to determine relevant issues that will influence the scope of the environmental analysis and EIS alternatives. Federal, state, and local agencies, and other individuals or organizations that may be interested in or affected by the BLM's decision on this Plan of Operations amendment are invited to participate in the scoping process. To be most helpful, you should submit formal scoping comments within 30 days after publication of this notice in the Federal Register.

Individual respondents may request confidentiality. Before including your address, phone number, e-mail address, or other personal identifying information in your comment, be advised that your entire comment—including your personal identifying information—may be made publicly available at any time. While you can ask us in your comment to withhold from public review your personal identifying information, we cannot guarantee that we will be able to do so. All submissions from organizations, businesses, and from individuals identifying themselves as representatives or officials of organizations or businesses will be available for public inspection in their entirety. The minutes and list of attendees for each public meeting will be available to the public and open for 30 days after the meeting to any participants who wish to clarify the views they expressed. All comments will be available to the public for review at the Ely Field Office BLM throughout the EIS process.

Potentially significant direct, indirect, residual, and cumulative impacts from the proposed action will be analyzed in the EIS and will include wildlife, BLM sensitive species, socioeconomics, and cultural resources. Additional issues to be addressed may arise during the scoping process.

Dated: February 26, 2007.
John R. Ruhs,
Field Manager.

[FR Doc. 07-1589 Filed 3-29-07; 8:45 am]

BILLING CODE 4310-HC-M